DEPARTMENT OF ENERGY

Federal Energy Regulatory Commission

Combined Notice of Filings #2

Take notice that the Commission received the following exempt wholesale generator filings:

Docket Numbers: EG15-48-000.

Applicants: Pilot Hill Wind, LLC.

Description: Notice of Self-Certification of Exempt Wholesale Generator Status of Pilot Hill Wind, LLC.

Filed Date: 2/13/15.

Accession Number: 20150213-5230.

Comments Due: 5 p.m. ET 3/6/15.

Docket Numbers: EG15-49-000.

Applicants: Kingfisher Wind, LLC.

Description: Notice of Self-Certification of Exempt Wholesale Generator Status of Kingfisher Wind, LLC.

Filed Date: 2/13/15.

Accession Number: 20150213-5280.

Comments Due: 5 p.m. ET 3/6/15.

Take notice that the Commission received the following electric rate filings:

Docket Numbers: ER10-2249-004.

Applicants: Portland General Electric Company.

Description: Notice of Non-Material Change in Status of Portland General Electric Company.

Filed Date: 2/13/15.

Accession Number: 20150213-5211.

Comments Due: 5 p.m. ET 3/6/15.

Docket Numbers: ER12-1279-001.

Applicants: BluCo Energy LLC.

Description: Notification of Non-Material Change in Status of BluCo Energy LLC.

Filed Date: 2/13/15.

Accession Number: 20150213-5213.

Comments Due: 5 p.m. ET 3/6/15.

Docket Numbers: ER13-2379-004.

Applicants: Midcontinent Independent System Operator, Inc.

Description: Compliance filing per 35: 2015-02-13_Attachment O MISO TO Rate Protocol Compliance Filing to be effective 1/1/2014.

Filed Date: 2/13/15.

Accession Number: 20150213-5224.

Comments Due: 5 p.m. ET 3/6/15.

Docket Numbers: ER15-522-002.

Applicants: Arizona Public Service Company.

Description: Compliance filing per 35: Errata to MBR Tariff Filing Under ER15-522 to be effective 2/2/2015.

Filed Date: 2/13/15.

Accession Number: 20150213-5263.

Comments Due: 5 p.m. ET 3/6/15.

Docket Numbers: ER15-697-001.

Applicants: Tonopah Solar Energy, LLC.

Description: Second supplement to December 22, 2014 Tonopah Solar Energy, LLC tariff filing.

Filed Date: 2/13/15.

Accession Number: 20150213-5152.

Comments Due: 5 p.m. ET 3/6/15.

Docket Numbers: ER15-709-001.

Applicants: Midcontinent Independent System Operator, Inc.

Description: Tariff Amendment per 35.17(b): 2015-02-13_SA 2331 Termination MidAmerican-Cornbelt WDS to be effective 1/10/2015.

Filed Date: 2/13/15.

Accession Number: 20150213-5220.

Comments Due: 5 p.m. ET 3/6/15.

Docket Numbers: ER15-1040-000.

Applicants: NSTAR Electric Company.

Description: Initial rate filing per 35.12 LCC Services Agreement—Braintree to be effective 5/1/2015.

Filed Date: 2/13/15.

Accession Number: 20150213-5169.

Comments Due: 5 p.m. ET 3/6/15.

Docket Numbers: ER15-1041-000.

Applicants: Prairie Breeze Wind Energy II LLC.

Description: Baseline eTariff Filing per 35.1: Application for Market-Based Rate Authorization to be effective 4/15/2015.

Filed Date: 2/13/15.

Accession Number: 20150213-5180.

Comments Due: 5 p.m. ET 3/6/15.

Docket Numbers: ER15-1041-001.

Applicants: Prairie Breeze Wind Energy II LLC.

Description: Tariff Amendment per 35.17(b): Supplement to Market-Based Rate Application to be effective 4/15/2015.

Filed Date: 2/13/15.

Accession Number: 20150213-5195.

Comments Due: 5 p.m. ET 3/6/15.

Docket Numbers: ER15-1042-000.

Applicants: New York Independent System Operator, Inc.

Description: § 205(d) rate filing per 35.13(a)(2)(iii): NYISO 205 filing VSS tariff revision to be effective 1/1/2016.

Filed Date: 2/13/15.

Accession Number: 20150213-5188.

Comments Due: 5 p.m. ET 3/6/15.

Docket Numbers: ER15-1043-000.

Applicants: Southwest Power Pool, Inc.

Description: § 205(d) rate filing per 35.13(a)(2)(iii): 2198R17 Kansas Power Pool NITSA and Cancellation of 1997R2 City of Mulvane, KS to be effective 9/1/2014.

Filed Date: 2/13/15.

Accession Number: 20150213-5190.

Comments Due: 5 p.m. ET 3/6/15.

Docket Numbers: ER15-1044-000.

Applicants: Southwest Power Pool, Inc.

Description: § 205(d) rate filing per 35.13(a)(2)(iii): 607R24 Westar Energy, Inc. NITSA NOA to be effective 2/1/2015.

Filed Date: 2/13/15.

Accession Number: 20150213-5196.

Comments Due: 5 p.m. ET 3/6/15.

Docket Numbers: ER15-1045-000.

Applicants: Pilot Hill Wind, LLC.

Description: Baseline eTariff Filing per 35.1: Pilot Hill Wind Initial Baseline MBR Application Filing to be effective 4/15/2015.

Filed Date: 2/13/15.

Accession Number: 20150213-5198.

Comments Due: 5 p.m. ET 3/6/15.

Docket Numbers: ER15-1046-000.

Applicants: Kansas City Power & Light Company.

Description: § 205(d) rate filing per 35.13(a)(2)(iii): KCP&L Rate Schedule 140 Filing to be effective 4/15/2015.

Filed Date: 2/13/15.

Accession Number: 20150213-5212.

Comments Due: 5 p.m. ET 3/6/15.

Docket Numbers: ER15-1047-000.

Applicants: R.E. Ginna Nuclear Power Plant, LLC.

Description: Initial rate filing per 35.12 Initial Rates Normal to be effective 4/1/2015.

Filed Date: 2/13/15.

Accession Number: 20150213-5233.

Comments Due: 5 p.m. ET 3/6/15.

Docket Numbers: ER15-1047-000.

Applicants: R.E. Ginna Nuclear Power Plant, LLC.

Description: Initial rate filing per 35.12 Initial Rates Normal to be effective 4/1/2015.

Filed Date: 2/13/15.

Accession Number: 20150213-5235.

Comments Due: 5 p.m. ET 3/6/15.

Docket Numbers: ER15-1048-000.

Applicants: KCP&L Greater Missouri Operations Company.

Description: § 205(d) rate filing per 35.13(a)(2)(iii): KCP&L-GMO Rate Schedule 136 Filing to be effective 4/15/2015.

Filed Date: 2/13/15.

Accession Number: 20150213-5250.

Comments Due: 5 p.m. ET 3/6/15.

Docket Numbers: ER15-1049-000.

Applicants: Southwest Power Pool, Inc.

Description: § 205(d) rate filing per 35.13(a)(2)(iii): Revisions in Addendum 1 of Attachment AF to be effective 4/15/2015.

Filed Date: 2/13/15.

Accession Number: 20150213-5265.

Comments Due: 5 p.m. ET 3/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2015.
Nathaniel J. Davis, Sr.,
Deputy Secretary.

[FR Doc. 2015-03644 Filed 2-23-15; 8:45 am]

BILLING CODE 6717-01-P